DEPARTMENT OF TRANSPORTATION

Federal Aviation Administration

Notice of Passenger Facility Charge (PFC) Approvals and Disapprovals

AGENCY: Federal Aviation Administration (FAA), DOT.

ACTION: Monthly Notice of PFC Approvals and Disapprovals. In January 2010, there were five applications approved. This notice also includes information on three applications, one approved in September 2009 and the other two approved in December 2009, inadvertently left off the September 2009 and December 2009 notices, respectively. Additionally, eight approved amendments to previously approved applications are listed.

SUMMARY: The FAA publishes a monthly notice, as appropriate, of PFC approvals and disapprovals under the provisions of the Aviation Safety and Capacity Expansion Act of 1990 (Title IX of the Omnibus Budget Reconciliation Act of 1990) (Pub. L. 101-508) and Part 158 of the Federal Aviation Regulations (14 CFR part 158). This notice is published pursuant to paragraph d of § 158.29.

PFC Applications Approved

Public Agency: Charleston County Aviation Authority, Charleston, South Carolina.

Application Number: 09-01-C-00-CHS.

Application Type: Impose and use a PFC.

PFC Level: $4.50.

Total Pfc Revenue Approved in this Decision: $7,933,920.

Earliest Charge Effective Date: March 1, 2010.

Estimated Charge Expiration Date: August 1, 2011.

Class of Air Carriers not Required to Collect PFC's:

Air taxi/commercial operators filing FAA Form 1800-31.

Determination: Approved. Based on information submitted in the public agency's application, the FAA has determined that the approved class accounts for less than 1 percent of the total annual enplanements at Charleston International Airport (CHS).

Brief Description of Projects Approved for Collection at CHS and Use at CHS:

Upgrade police radio communications.

Design flight/baggage information display system.

Modify terminal building, phase II—construct terminal rain cover.

Rehabilitate passenger boarding bridge.

Master plan update.

Flight/baggage information display system.

Terminal redevelopment and expansion—design.

Standardize airfield signage.

Restripe airfield taxiway and ramp edge.

Improve airport access roads—design and construction.

Terminal roof repairs—design and construction.

Heating, ventilation, and air conditioning improvements.

Rehabilitate passenger boarding bridges phase II—construction.

Upgrade baggage makeup area.

Miscellaneous security improvements.

PFC implementation and administration.

Brief Description of Projects Approved for Collection at CHS and USE at Charleston Executive Airport:

Rehabilitate east/west taxiway, phase I—design.

Construct new general aviation apron—design and construction.

Improve runway safety area—runway safety area study, runway 9/27.

Update airport layout plan.

Rehabilitate east/west taxiway, phase II—construction.

Reconstruct runway 9/27 and improvements to runway safety area— environmental assessment and design.

Reconstruct runway 9/27 and improvements to runway safety area— construction.

Relocate runway 9/27 glide slope.

Pavement repairs to north south taxiway—runway 4/22.

Brief Description of Projects Approved for Collection at CHS and Use at Mt. Pleasant Regional Airport:

Rehabilitate airfield lighting.

Update airport layout plan.

Apron expansion project—design and construction.

Terminal facility improvements—design and construction.

Runway pavement overlay—design and construction.

Sanitary sewer improvements—design and construction.

Land use planning.

Brief Description of Disapproved Project:

Design terminal maintenance facilities.

Determination: Disapproved. This project was found to be ineligible in accordance with paragraph 601 of FAA Order 5100.38C, Airport Improvement Program Handbook which limits eligibility of terminal areas to those directly related to the movement of passengers and baggage. The maintenance area is an ineligible, indirect support area of the terminal.

Decision Date: September 9, 2009.

FOR FURTHER INFORMATION CONTACT: Anna Guss, Atlanta Airports District Office, (404) 305-7146.

Public Agency: City of Santa Barbara, California.

Application Number: 09-07-C-00-SBA.

Application Type: Impose and use a PFC.

PFC Level: $4.50.

Total PFC Revenue Approved in This Decision: $19,945,000.

Earliest Charge Effective Date: April 1,2010.

Estimated Charge Expiration Date: July 1, 2039.

Class of Air Carriers not Required to Collect PFC's:Non-scheduled I on demand air carriers filing FAA Form 1800-31.

Determination: Approved. Based on information submitted in the public agency's application, the FAA has determined that the approved class accounts for less than 1 percent of the total annual enplanements at Santa Barbara Municipal Airport.

Brief Description of Project Approved for Collection and Use:

Airline terminal improvements.

Decision Date: December 22, 2009.

FOR FURTHER INFORMATION CONTACT: Darlene Williams, Los Angeles Airports District Office, (310) 725-3625.

Public Agency: County of Milwaukee, Milwaukee, Wisconsin.

Applications Number: 09-15-C-00-MKE.

Application Type: Impose and use a PFC.

PFC Level: $3.00.

Total PFC Revenue Approved in this Decision: $25,068,451.

Earliest Charge Effective Date: August 1, 2020.

Estimated Charge Expiration Date: August 1, 2022.

Class of Air Carriers not Required to Collect PFC's:Air taxi/commercial operators filing FAA Form 1800-31.

Determination: Approved. Based on information submitted in the public agency's application, the FAA has determined that the approved class accounts for less than 1 percent of the total annual enplanements at General Mitchell International Airport.

Brief Description of Projects Approved for Collection and Use:

Noise compatibility program—phase II residential sound insulation.

Noise monitoring system.

Vacant land and residential property acquisition.

Runway safety area construction—runways 1L, 19R, 7R, and 25L.

Runways 1L/19R and 7R/25L intersection repaving—design.

Runway guard lights.

Inline baggage security design (phase 2).

Terminal south escalator reorientation—design.

Concourse D restroom renovation—design.

Gate D52 design and construction.

Cargo deicer pads.

Expansion of fleet portion of combined maintenance facility—design.

Equipment storage building for snow plows—design.

Acquire snow removal equipment.

Cargo ramp gate 3D.

Decision Date: December 31, 2009.

FOR FURTHER INFORMATION CONTACT: Nancy Nistler, Minneapolis Airports District Office, (612) 713-4353.

Public Agency: Counties of Colbert and Lauderdale, Muscle Shoals, Alabama.

Application Number: 10-06-C-00-MSL.

Application Type: Impose and use a PFC.

PFC Level: $4.50.

Total PFC Revenue Approved in this Decision: $220,000.

Earliest Charge Effective Date: April 1,2010.

Estimated Charge Expiration Date: April 1, 2015.

Class of Air Carriers not Required to Collect PFC's:None.

Brief Description of Project Approved for Collection and Use:

Terminal improvements.

Decision Date: January 7, 2010.

FOR FURTHER INFORMATION CONTACT: Kevin Morgan, Jackson Airports District Office, (601) 664-9891.

Public Agency: City of New Orleans and New Orleans Aviation Board, New Orleans, Louisiana.

Applications Number: 09-10-C-00-MSY.

Application Type: Impose and use a PFC.

PFC Level: $4.50.

Total PFC Revenue Approved in this Decision: $70,531,906.

Earliest Charge Effective Date: July 1, 2023.

Estimated Charge Expiration Date: August 1, 2026.

Class of Air Carriers not Required to Collect PFC's:On-demand air taxi/commercial operators filing FAA Form 1800-31.

Determination: Approved. Based on information submitted in the public agency's application, the FAA has determined that the approved class accounts for less than 1 percent of the total annual enplanements at Louis Armstrong New Orleans International Airport.

Brief Description of Projects Approved for Collection and Use at a $450 PFC Level:

Northwest service (perimeter) road.

Baggage handling system.

Airfield lighting vault.

Runway 6/24 downgrade.

Brief Description of Projects Approved for Collection and Use at a $3.00 PFC Level:

Terminal apron rehabilitation.

Facility improvement program.

Utility building (design and construct).

Concourse C and D sterile corridor.

Decision Date: January 11, 2010.

FOR FURTHER INFORMATION CONTACT: Andy Velayos, Louisiana/New Mexico Airports Development Office, (817) 222-5647.

Public Agency: City of Little Rock, Arkansas.

Applications Number: 10-07-C-00-LIT.

Application Type: Impose and use a PFC.

PFC Level: $450.

Total PFC Revenue Approved in this Decision: $9,595,910.

Earliest Charge Effective Date: November 1, 2011.

Estimated Charge Expiration Date: August 1, 2013.

Class of Air Carriers not Required to Collect PFC's:On-demand air taxi/commercial operators filing FAA Form 1800-31.

Determination: Approved. Based on information submitted in the public agency's application, the FAA has determined that the approved class accounts for less than 1 percent of the total annual enplanements at Little Rock National Airport.

Brief Description of Projects Approved for Collection and Use:

Runway 4R122L rehabilitation and safety area improvements.

Runway 4L/22R rehabilitation and safety area improvements.

Runway 18/36 rehabilitation and safety area improvements.

Airfield lighting and surface movement.

Taxiway reconstruction and repair.

Apron rehabilitation and repair.

Safety and security systems and checkpoints.

Terminal improvements.

Noise mitigation measures.

Airport studies.

Snow plows.

Duct for new tower.

PFC application administrative costs.

Decision Date: January 15, 2010.

FOR FURTHER INFORMATION CONTACT: Bill Bell, Arkansas/Oklahoma Airports Development Office, (817) 222-5664.

Public Agency: Clark County Department of Aviation, Las Vegas, Nevada.

Applications Number: 09-08-C-00-LAS.

Application Type: Impose and use a PFC.

PFC Level: $4.50.

Total PFC Revenue Approved in this Decision: $1,855,265,472.

Earliest Charge Effective Date: December 1, 2026.

Estimated Charge Expiration Date: November 1, 2053.

Class of Air Carriers not Required to Collect PFC's:Air taxi/commercial operators—nonscheduled/on-demand air carriers that exclusively file FAA Form 1800-31 and enplane less than 2,500 passengers at Las Vegas McCarran International Airport.

Determination: Approved. Based on information submitted in the public agency's application, the FAA has determined that the approved class accounts for less than 1 percent of the total annual enplanements at Las Vegas McCarran International Airport.

Brief Description of Project Partially Approved for Collection and Use at a $4.50 PFC Level:

Construction of terminal 3.

Determination: Partially approved. The FAA determined that several items identified by the public agency in the application's detailed cost information as eligible were, in fact, not PFC eligible. As a result, the FAA decreased the approved amount from that requested by $200,262,528.

Brief Description of Disapproved Project:

Construction of heliport.

Determination: Disapproved for collection. The FAA determined that the public agency did not demonstrate that this project meets the requirements of § 158.15 and 158.17 with respect to PFC eligibility, PFC objective, adequate justification, and significant contribution.

Decision Date: January 15, 2010.

FOR FURTHER INFORMATION CONTACT: Gretchen Kelly, San Francisco Airports District Office, (650) 876-2778, extension 623.

Public Agency: Bert Mooney Airport Authority, Butte, Montana.

Applications Number: 10-09-C-00-BTM.

Application Type: Impose and use a PFC.

PFC Level: $4.50.

Total PFC Revenue Approved in this Decision: $271,635.

Earliest Charge Effective Date: March 1, 2010.

Estimated Charge Expiration Date: February 1, 2013.

Class of Air Carriers not Required to Collect PFC's:

Air taxi/commercial operators filing FAA Form 1800-31.

Determination: Approved. Based on information submitted in the public agency's application, the FAA has determined that the approved class accounts for less than 1 percent of the total annual enplanements at Bert Mooney Airport.

Brief Description of Projects Approved for Collection and Use:

Relocate airport perimeter road.

Install medium intensity approach lighting system with runway alignment indicator lights on runway 15.

Rehabilitate taxiway D end segments (maintenance).

Rehabilitate aprons (maintenance).

Rehabilitate runway 15/33 (maintenance).

Rehabilitate taxiway A.

Environmental assessment for relocation of perimeter road.

Pavement condition index survey.

Wildlife hazard assessment.

Acquire security equipment.

Acquire friction decelerometer.

Upgrade terminal heating controls.

Decision Date: January 22, 2010.

FOR FURTHER INFORMATION CONTACT: Dave Stelling, Helena Airports District Office, (406) 449-5257.

Amendments to PFC Approvals
Amendment No., city, state | Amendment approved date | Original approved net PFC revenue | Amended approved net PFC revenue | Original estimated charge exp. date | Amended estimated charge exp. date
04-01-C-01-GSN Saipan, MP | 01/13/10 | $29,920,680 | $29,533,680 | 08/01/16 | 08/01/16
04-01-C-01-GRO Rota, MP | 01/13/10 | 1,797,042 | 1,775,542 | 08/01/16 | 08/01/16
04-01-C-01-TNI Tinian, MP | 01/13/10 | 1,724,826 | 1,703,326 | 08/01/16 | 08/01/16
92-01-C-08-SJU San Juan, PR | 01/13/10 | 47,738,284 | 45,027,956 | 05/01/97 | 05/01/97
93-02-U-04-SJU San Juan, PR | 01/13/10 | NA | NA | 05/01/97 | 05/01/97
07-05-C-01-JST Johnstown, PA | 01/14/10 | 132,000 | 285,335 | 04/01/10 | 05/01/14
03-10-C-02-BNA Nashville, TN | 01/14/10 | 5,773,678 | 2,591,683 | 10/01/02 | 10/01/02
06-12-C-03-BNA Nashville, TN | 01/14/10 | 11,400,201 | 10,066,488 | 10/01/10 | 09/01/10

Issued in Washington, DC on March 11, 2010.
Joe Hebert,
Manager, Financial Analysis and Passenger Facility Charge Branch.

[FR Doc. 2010-5900 Filed 3-18-10; 8:45 am]

BILLING CODE 4910-13-M